DEPARTMENT OF COMMERCE

National Institute of Standards and Technology

Information Collection Activities; Submission to the Office of Management and Budget (OMB) for Review and Approval; Comment Request; CHIPS Statement of Interest Information Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on Wednesday, April 12, 2023, during a 60-day comment period. This notice allows for an additional 30 days for public comments.

Agency: National Institute of Standards and Technology (NIST), Commerce.

Title: CHIPS Statement of Interest Information Collection.

OMB Control Number: 0693-0091.

Form Number(s): None.

Type of Request: Regular.

Number of Respondents: 500.

Average Hours per Response: .5 hrs. (30 mins.)

Burden Hours: 250 hrs.

Needs and Uses: Applicants must submit a statement of interest (SOI) via a form available at https://applications.chips.gov/ at least 21 days before submission of a pre-application. The statement of interest enables the Department to gauge interest in the program and plan for pre-application or application review.

Information to be collected includes:

• Name of applicant organization and contact information.

• Estimated date of submission of a pre-application.

• Basic project information, which will be elicited through multiple-choice questions and specific fields in the statement of interest form, including nature of project and potential scope.

Affected Public: Business or other for-profit organizations.

Frequency: Once.

Respondent's Obligation: Mandatory to obtain or retain benefits.

Legal Authority: CHIPS Act of 2022 (Division A of Pub. L. 117-167) (the Act).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0091.

Sheleen Dumas,
Department PRA Clearance Officer, Office of the Under Secretary for Economic Affairs, Commerce Department.

[FR Doc. 2023-17954 Filed 8-18-23; 8:45 am]

BILLING CODE 3510-13-P